DEPARTMENT OF THE INTERIOR

Bureau of Land Management

[CACA-051552, LLCAD07000 L51010000 FX0000 LVRWB10B3980]

Notice of Segregation of Public Lands for the Pattern Energy Group Ocotillo Express Wind Energy Project, Imperial County, CA

AGENCY: Bureau of Land Management, Interior.

ACTION: Notice.

SUMMARY: The Bureau of Land Management (BLM) is segregating public lands located in Imperial County, California, from appropriation under the public land laws including the Mining Law, but not the Mineral Leasing or Material Sales Acts, for a period of 2 years for the purpose of processing a wind energy right-of-way (ROW) application for the Ocotillo Express Wind Project. The public land contained in this segregation totals approximately 12,436 acres.

DATES: Effective Date: This segregation is effective on February 13, 2012.

FOR FURTHER INFORMATION CONTACT: Cedric Perry, BLM Project Manager, telephone (951) 697-5388; address 22835 Calle San Juan De Los Lagos, Moreno Valley, California 92553; email Cedric_Perry@ca.blm.gov. Please contact Cedric Perry if you would like to have your name added to our mailing list.

SUPPLEMENTARY INFORMATION: The BLM is segregating the following described public lands, located in Imperial County, California, subject to valid existing rights, from appropriation under the public land laws and Mining Laws, but not the Mineral Leasing Laws or the Material Sale Law.

San Bernardino Meridian, California

T. 16 S., R. 9 E.,

Sec. 17, lots 3 thru 10, inclusive;

Sec. 18, lots 7 thru 14, inclusive, lots 17 thru 28, inclusive, and SE¼;

Sec. 19, lots 5 thru 40, inclusive;

Sec. 20;

Sec. 21, lots 1 thru 22, inclusive;

Sec. 22, lots 1 thru 12, inclusive, lots 15 thru 18, inclusive, and lots 20 thru 22, inclusive;

Sec. 23, lots 1 thru 9, inclusive, lot 16, E½NE¼, and E½SE¼;

Sec. 24;

Sec. 27, lots 20 thru 22, inclusive;

Sec. 28, lots 3 thru 10, inclusive, and lots 13 thru 26, inclusive;

Sec. 29;

Sec. 30;

Sec. 31;

Sec. 32;

Sec. 33, lots 1 thru 20, inclusive, and SW¼SW¼;

Sec. 34, lots 1 thru 11, inclusive;

Sec. 35, lots 4 and 5;

Tract 52, tracts A, C, D, E, F, and H.

T. 17 S., R. 9 E.,

Sec. 1, excluding Jacumba Wilderness Area CACA 35087;

Sec. 2, lot 8;

Sec. 3, lot 5;

Sec. 4, lots 6 and 7.

T. 16½ S., R. 9½ E.,

Sec. 1, lots 5 thru 8, inclusive, S½NE¼, S½NW¼, and S½;

Sec. 2, excluding Jacumba Wilderness Area CACA 35087.

T. 16 S., R. 10 E.,

Sec. 19.

T. 17 S., R. 10 E.,

Sec. 5, lot 4, excluding Jacumba Wilderness Area CACA 35087;

Sec. 6, lots 1 thru 3, inclusive, excluding Jacumba Wilderness Area CACA 35087.

Containing 12,436 acres.

This segregation is necessary to process the ROW application filed by Pattern Energy Group for the Ocotillo Express Wind Project on the above described lands while maintaining the status quo. The BLM is segregating the lands under the authority contained in 43 CFR 2091.3-1(e) and 2804.25(e) for a period of 2 years, subject to valid existing rights. This 2-year segregation period will commence on February 13, 2012. The public lands involved in this closure will be segregated from appropriation under the public land and mining laws, but not the mineral leasing or material sale laws. It has been determined that this segregation is necessary for the orderly administration of the public lands.

The segregation period will terminate and the lands will automatically reopen to appropriation under the public land laws, including the mining laws, if one of the following events occurs: (1) Upon the BLM's issuance of a decision regarding whether to issue a ROW authorization for the Ocotillo Express Project; (2) upon publication of a Federal Register notice of termination of the segregation; or (3) without further administrative action at the end of the segregation provided for in the Federal Register notice initiating the segregation, whichever occurs first. Any segregation made under this authority would be effective only for a period of up to 2 years. The lands to be segregated are identified in the legal description above.

Thomas Pogacnik,
Deputy State Director, California.

[FR Doc. 2012-3299 Filed 2-10-12; 8:45 am]

BILLING CODE 4310-84-P